DEPARTMENT OF HEALTH AND HUMAN SERVICES

Centers for Disease Control and Prevention

The National Institute for Occupational Safety and Health (NIOSH) of the Centers for Disease Control and Prevention Announces the Following: Implementation of New Record Schedule

AGENCY: Centers for Disease Control and Prevention (CDC), Department of Health and Human Services (HHS).

ACTION: Notice.

SUMMARY: NIOSH is implementing a new record schedule governing the retention of records transferred to the agency by employers pursuant to the regulations of the Occupational Safety and Health Administration (OSHA). Pursuant to this schedule, NIOSH will review these records to determine if they document exposures or medical conditions as required under the OSHA regulations and have research value. Those records that NIOSH determines meet the OSHA regulations and have a research value will be retained for 30 years.

Those records that do not document exposure or medical condition and treatment or have no research value will not be retained.

SUPPLEMENTARY INFORMATION: The hazard-specific standards of the Occupational Safety and Health Administration (OSHA)(Title 29, Code of Federal Regulations [CFR], Parts 1910.1001 through 1910.1450) contain requirements stating that when a company closes and leaves no successor employer, it must transfer (or in some instances, offer to transfer) its employee's medical and exposure records to NIOSH. The OSHA carcinogens standards (29 CFR 1910.1003-1910.1016) also require that such records be transferred to NIOSH when an employee resigns, retires, or dies. The transfer of these records to NIOSH is intended to preserve them for research purposes.

NIOSH has amended its record schedule pertaining to these records, Employee Exposure and Medical Records (NIOSH), (NARA job Number N1-442-98-1, Item 2), Item 2-80 in the CDC Records Control Schedule (RCS) B-321, to reduce the retention period of those records and permit the destruction of the records which do not serve any research purpose. Under the new schedule, those records that meet the requirements of the OSHA regulations and serve a research purpose will now be retained for 30 years, rather than 40 years (as under the previous record schedule). However, if upon review NIOSH determines that the records are not medical records or exposure records required to be transferred to NIOSH or were not systematically collected and will not serve a research purpose, the records will not be retained and will be destroyed.

On September 16, 2005, the National Archives and Records Administration (NARA) published in the Federal Register [70(179):54774-54776] a notice of availability of this proposed record schedule, Employee Exposure and Medical Records (NIOSH), (NARA job number N1-442-2005-1, Item 1) and request for comments. Following receipt and review of comments, NARA approved this revised record schedule on December 16, 2005. This notice announces adoption of the revised schedule by NIOSH. A copy of the revised record schedule can be obtained from NIOSH.

FOR FURTHER INFORMATION CONTACT: Rodger Tatken, National Institute for Occupational Safety and Health, Robert A. Taft Laboratories, 4676 Columbia Parkway, Cincinnati, OH 45226 (513) 533-8370.

Dated: March 14, 2007.
James D. Seligman,
Chief Information Officer, Center for Disease Control and Prevention.

[FR Doc. E7-5219 Filed 3-21-07; 8:45 am]

BILLING CODE 4163-19-P